DEPARTMENT OF TRANSPORTATION

Federal Aviation Administration

14 CFR Part 39

[Docket No. 2002-NM-02-AD; Amendment 39-13230; AD 2003-14-11]

RIN 2120-AA64

Airworthiness Directives; Airbus Model A330 and A340 Series Airplanes

AGENCY: Federal Aviation Administration, DOT.

ACTION: Final rule.

SUMMARY: This amendment adopts a new airworthiness directive (AD), applicable to all Airbus Model A330 and A340 series airplanes, that requires revising the Airworthiness Limitations Section of the Instructions for Continued Airworthiness to incorporate life limits for the servo-controls located on the ailerons and replacement of the servo-controls with new servo-controls when they have reached their operational life limits. This action is necessary to prevent hydraulic leakage and failure of the servo-controls due to cracks in the end caps and along the barrel, which could result in loss of the ailerons and consequent reduced controllability of the airplane. This action is intended to address the identified unsafe condition.

DATES: Effective August 18, 2003.

ADDRESSES: Information pertaining to this amendment may be examined at or obtained from the Federal Aviation Administration (FAA), Transport Airplane Directorate, Rules Docket, 1601 Lind Avenue, SW., Renton, Washington 98055-4056.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all Airbus Model A330 and A340 series airplanes was published in the Federal Register on April 3, 2003 (68 FR 16225). That action proposed to require revising the Airworthiness Limitations Section of the Instructions for Continued Airworthiness to incorporate life limits for the servo-controls located on the ailerons and replacement of the servo-controls with new servo-controls when they have reached their operational life limits.

Comments

Interested persons have been afforded an opportunity to participate in the making of this amendment. No comments were submitted in response to the proposal or the FAA's determination of the cost to the public.

Conclusion

The FAA has determined that air safety and the public interest require the adoption of the rule as proposed.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the proposed AD regarding that material.

Change in Labor Rate

After the proposed AD was issued, we reviewed the figures we use to calculate the labor rate to do the required actions. To account for various inflationary costs in the airline industry, we find it appropriate to increase the labor rate used in these calculations from $60 per work hour to $65 per work hour. The economic impact information, below, has been revised to reflect this increase in the specified hourly labor rate.

Cost Impact

The FAA estimates that 9 Model A330 series airplanes of U.S. registry will be affected by this AD, that it will take approximately 5 work hours per airplane to accomplish the required actions, and that the average labor rate is $65 per work hour. Required parts will be provided to the operators at no cost. Based on these figures, the cost impact of the AD on U.S. operators of Model A330 series airplanes is estimated to be $2,925, or $325 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Airbus Model A340 series airplanes on the U.S. Register. However, should an affected airplane be imported and placed on the U.S. Register in the future, it will require approximately 5 work hours to accomplish the required actions, at an average labor rate of $65 per work hour. Required parts will be provided to the operators at no cost. Based on these figures, the cost impact of this AD for Model A340 operators will be $325 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-14-11 Airbus: Amendment 39-13230. Docket 2002-NM-02-AD.

Applicability: All Model A330 and A340 series airplanes, certificated in any category.

Note 1: This AD requires revisions to certain operator maintenance documents to include new inspections. Compliance with these inspections is required by 14 CFR part 91.403(c). For airplanes that have been previously modified, altered, or repaired in the areas addressed by these inspections, the operator may not be able to accomplish the inspections described in the revisions. In this situation, to comply with 14 CFR part 91.403(c), the operator must request approval for an alternative method of compliance in accordance with paragraph (d) of this AD. The request should include a description of changes to the required inspections that will ensure the continued damage tolerance of the affected structure. The FAA has provided guidance for this determination in Advisory Circular (AC) 25-1529.

Compliance: Required as indicated, unless accomplished previously.

To prevent hydraulic leakage and failure of the servo-controls located on the ailerons due to cracks in the end caps and along the barrel, which could result in loss of the ailerons and consequent reduced controllability of the airplane, accomplish the following:

Airworthiness Limitations Revision and Replacement of Servo-Control Units

(a) Within 30 days after the effective date of this AD, revise the Airworthiness Limitations Section (ALS) of the Instructions for Continued Airworthiness by inserting a copy of this AD into the ALS.

(b) Replace the servo-control units operating in the active mode at the times specified in Table 1 of this AD as follows, counted from the date of initial installation on the airplane, as applicable:

Table 1.—Part Numbers and Replacement Life Limits
For model— | Replace Servo-Controls having the following part numbers with new parts having the same part numbers: | Replace before—
(1) A330 series airplanes | (i) 3337457-21, -22, and -23 (inboard) | 6,000 flight hours.
| (ii) 3337457-25, -26, and -27 (inboard) | 18,000 flight hours.
| (iii) 3337457-30, -31, -34, -35, -36, -37, and -38 (inboard) | 21,000 flight cycles or 32,000 flight hours, whichever occurs first.
| (iv) 3337457-59 and -60 (inboard) | 60,000 flight hours. This is a temporary and life limit; if the operator wants to use the parts beyond 60,000 flight hours the accumulated flight hours of the parts since their origin must be tracked and a request submitted for an alternative method of compliance in accordance with paragraph (d) of this AD.
| (v) 3337458-30, 31, -34, -35, 36, -37, and -38 (outboard) | 21,000 flight cycles or 32,000 flight hours, whichever occurs first.
| (vi) 3337458-59 and -60 (outboard) | 60,000 flight hours. This is a temporary life limit; if the operator wants to use the parts beyond 60,000 flight hours the accumulated flight hours of the parts since their origin must be tracked and a request submitted for an alternative method of compliance in accordance with paragraph (d) of this AD.
(2) A340 series airplanes | (i) 3337457-21, -22, and -23 (inboard) | 9,000 flight hours.
| (ii) 3337457-25, -26, and -27 (inboard) | 27,000 flight hours.
| (iii) 3337457-30, -31, -34, -35, 36, -37, and -38 (inboard) | 16,400 flight cycles or 65,600 flight hours, whichever occurs first.
| (iv) 3337457-59 and -60 (inboard) | 80,000 flight hours. This is a temporary and life limit; if the operator wants to use the parts beyond 80,000 flight hours the accumulated flight hours of the parts since their origin must be tracked and a request submitted for an alternative method of compliance in accordance with paragraph (d) of this AD.
| (v) 3337458-30, 31, -34, -35, 36, -37, and -38 (outboard) | 16,400 flight cycles or 65,600 flight hours, whichever occurs first.
| (vi) 3337458-59 and -60 (outboard) | 80,000 flight hours. This is a temporary life limit and if the operator wants to use the parts beyond 80,000 flight hours must track the accumulated flight hours of the parts since their origin and request approval for an alternative method of compliance in accordance with paragraph (d) of this AD.

(c) Except as provided by paragraph (d) of this AD: After the actions specified in paragraphs (a) and (b) of this AD have been accomplished, no alternative life limits may be approved for the components specified in paragraph (b) of this AD.

Alternative Methods of Compliance

(d) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch, ANM-116.

Note 2: Information concerning the existence of approved alternative methods of compliance with this AD, if any, may be obtained from the International Branch, ANM-116.

Special Flight Permits

(e) Special flight permits may be issued in accordance with sections 21.197 and 21.199 of the Federal Aviation Regulations (14 CFR 21.197 and 21.199) to operate the airplane to a location where the requirements of this AD can be accomplished.

Note 3: The subject of this AD is addressed in French airworthiness directives 2001-529(B) and 2001-530(B), both dated November 14, 2001.

Effective Date

(f) This amendment becomes effective on August 18, 2003.

Issued in Renton, Washington, on July 7, 2003.
Ali Bahrami,
Acting Manager, Transport Airplane Directorate, Aircraft Certification Service.

[FR Doc. 03-17694 Filed 7-11-03; 8:45 am]

BILLING CODE 4910-13-P